DEPARTMENT OF TRANSPORTATION

Surface Transportation Board

[STB Ex Parte No. 290 (Sub-No. 4)]

Railroad Cost Recovery Procedures Productivity Adjustment

AGENCY: Surface Transportation Board, DOT.

ACTION: Proposed Adoption of a Railroad Cost Recovery Procedures Productivity Adjustment.

SUMMARY: The Surface Transportation Board proposes to adopt 1.008 (0.8%) as the measure of average change in railroad productivity for the 2002-2006 (5-year) averaging period. This value is a decline of 0.9 of a percentage point from the current measure of 1.7% that was developed for the 2001-2005 period.

DATES: Comments are due March 13, 2008.

EFFECTIVE DATE: The proposed productivity adjustment is effective March 17, 2008.

ADDRESSES: Send comments (an original and 10 copies) referring to STB Ex Parte No. 290 (Sub-No. 4) to: Surface Transportation Board, 395 E Street, SW., Washington, DC 20423-0001.

FOR FURTHER INFORMATION CONTACT: Pedro Ramirez, (202) 245-0333. [Federal Information Relay Service (FIRS) for the hearing impaired: 1-800-877-8339.]

SUPPLEMENTARY INFORMATION: Additional information is contained in the Board's decision, which is available on our Web site www.stb.dot.gov. To purchase a copy of the full decision, write to, e-mail or call the Board's contractor, ASAP Document Solutions; 9332 Annapolis Rd., Suite 103, Lanham, MD 20706; e-mail asapdc@verizon.net; phone (202) 306-4004. [Assistance for the hearing impaired is available through FIRS: 1-800-877-8339.]

This action will not significantly affect either the quality of the human environment or energy conservation.

Pursuant to 5 U.S.C. 605(b), we conclude that our action will not have a significant economic impact on a substantial number of small entities within the meaning of the Regulatory Flexibility Act.

Decided: February 20, 2008.
By the Board, Chairman Nottingham, Vice Chairman Mulvey, and Commissioner Buttrey.
Anne K. Quinlan,
Acting Secretary.

[FR Doc. E8-3584 Filed 2-25-08; 8:45 am]

BILLING CODE 4915-01-P